DEPARTMENT OF EDUCATION

Upward Bound Program Participant Expansion Initiative

AGENCY: Office of Postsecondary Education, Department of Education.

ACTION: Notice of proposed priority.

SUMMARY: The Secretary of Education proposes to establish an absolute priority to provide supplemental funds of up to $85,600 in fiscal year 2000 to on-going Upward Bound projects that serve at least one target high school in which at least 50 percent of the students were eligible for a free lunch under the National School Lunch Act during the 1999-2000 school year.

The purpose of this initiative is to increase the number of the neediest eligible students who are served by the Upward Bound program. The neediest students are generally those from the lowest income levels. The Secretary believes that limiting supplemental funds to projects that serve the above-described target schools is a good way to measure whether projects serve the lowest income students because the Free Lunch program is limited to students from families with the lowest family income.

Under this priority, supplements up to $85,600 will be awarded to projects currently funded under the Upward Bound Program. An estimated 150 current Upward Bound projects could receive supplemental funds to serve not more than twenty (20) additional students.

Projects that receive supplemental funds under this priority are strongly encouraged to select eligible participants who have the greatest need for Upward Bound services.

DATES: We must receive your comments on or before July 3, 2000.

ADDRESSES: Address all comments about this proposed priority to Dr. Robert L. Belle, U.S. Department of Education, 1990 K Street, NW., Room 7044, Washington, DC 20006-8510. If you prefer to send your comments through the Internet, use the following address: peggy_whitehead@ed.gov.

FOR FURTHER INFORMATION CONTACT: Peggy Whitehead, Sheryl Wilson, or Gaby Watts, U.S. Department of Education, 1990 K Street, NW., Room 7020, Washington, DC 20006-8510. Telephone (202) 502-7600. If you use a telecommunications device for the deaf (TDD), you may call the Federal Information Relay Service (FIRS) at 1-800-877-8339. Individuals with disabilities may obtain this document in an alternative format (e.g., Braille, large print, audiotape, or computer diskette) on request to the contact persons listed in the preceding paragraph.

SUPPLEMENTARY INFORMATION:

Invitation to Comment

We invite you to submit comments regarding this proposed priority. During and after the comment period, you may inspect all public comments about this priority in room 7039, 1990 K Street, NW., Washington, DC, between the hours of 8:30 a.m. and 4:00 p.m. Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, you may call (202) 502-7600. If you use a TDD, you may call the Federal Information Relay Service (FIRS) at 1-800-877-8339.

Background

In fiscal year 2000, the Congress provided more funds than the Administration requested for the Federal TRIO Programs. In examining the options available to the Secretary for allocating these additional funds, the Secretary determined that a portion of the funds should be used to increase support to the Upward Bound program. The Upward Bound program, authorized under section 402C of the Higher Education Act of 1965 as amended (HEA), 20 U.S.C. 1070a-13, serves low-income, potential first-generation, college students helping them generate the skills and motivation necessary for success in education beyond secondary school.

Proposed Absolute Priority

Under 34 CFR 75.105(c), the Secretary proposes to give an absolute preference to applications that meet the following absolute priority. The Secretary will provide supplemental funds of $85,600 only to Upward Bound projects serving a target high school in which at least 50 percent of the students were eligible for the Free Lunch program during the 1999-2000 school year.

If more applications are received than can be funded under this initiative, the Secretary will use numerical scores assigned by field readers during the fiscal year 1999 Upward Bound competition. The Secretary will provide supplemental funds to the projects eligible for the proposed absolute priority that received the highest average scores from the three field readers. For the purposes of this proposed absolute priority, the prior experience score will not be considered. Only currently funded projects are eligible to apply for these supplemental funds.

Veteran Upward Bound projects and Upward Bound Math/Science projects are not eligible to participate in this initiative.

Upward Bound projects that wish to receive supplemental funds will be required to submit:

• For the 1999-2000 school year, the number of students eligible for the Free Lunch program at each of the target high schools served by the project and the total number of students enrolled at those target schools;

• The number of additional students, not to exceed 20, that the project plans to serve;

• A revised budget; and

• A narrative describing how the supplemental funds will be used.

Invitational Priority

The Secretary strongly encourages projects that receive supplemental funds to enhance their recruitment strategies and services to target high schools to select and serve students who are at greatest risk of not graduating from high school or pursuing postsecondary education. As is the case currently in the Upward Bound program, program participants must be low-income or potential first-generation college students who have an academic need for the services of this program. However, under 34 CFR 75.105(c)(1) an application that meets this invitational priority does not receive competitive or absolute preference over other applications.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and action for the program.

Applicable Program Regulations: 34 CFR Part 645.

Program Authority: 20 U.S.C. 1070.

Electronic Access to This Document

You may view this document, as well as all other Department of Education documents published in the Federal Register, in text or Adobe Portable Document Format (PDP) on the Internet at either of the following sites:

http://ocfo.ed.gov/fedreg.htm

http://www.ed.gov/news.html

To use the PDF you must have the Adobe Acrobat Reader which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the code of Federal Regulations is available on GPO Access at: http://www.access.gpo.gov/nara/index.html

Dated: May 26, 2000.
A. Lee Fritschler,
Assistant Secretary, Office of Postsecondary Education.

[FR Doc. 00-13662 Filed 5-31-00; 8:45 am]

BILLING CODE 4000-01-P